DEPARTMENT OF HEALTH AND HUMAN SERVICES

National Institutes of Health

Center for Scientific Review; Amended Notice of Meeting

Notice is hereby given of a change in the meeting of the Drug Discovery and Mechanisms of Antimicrobial Resistance Study Section, October 17, 2013, 08:00 a.m. to October 18, 2013, 06:00 PM, Hyatt Regency Bethesda, One Bethesda Metro Center, 7400 Wisconsin Avenue, Bethesda, MD, 20814 which was published in the Federal Register on September 20, 2013, 78 FR 183 Pgs. 57866-57867.

The meeting will start on December 9, 2013 at 8:00 a.m. and end December 10, 2013 at 6:00 p.m. The meeting location remains the same. The meeting is closed to the public.

Dated: November 5, 2013.
Michelle Trout,
Program Analyst, Office of Federal Advisory Committee Policy.

[FR Doc. 2013-26895 Filed 11-8-13; 8:45 am]

BILLING CODE 4140-01-P